DEPARTMENT OF DEFENSE

Office of the Secretary

[Docket ID: DOD-2010-OS-0080]

Privacy Act of 1974; System of Records

AGENCY: Defense Intelligence Agency, DoD.

ACTION: Notice to add a system of records.

SUMMARY: The Defense Intelligence proposes to add a system of records notice to its inventory of record systems subject to the Privacy Act of 1974, (5 U.S.C. 552a), as amended.

DATES: This proposed action will be effective without further notice on July 15, 2010 unless comments are received which result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Theresa Lowery at (202) 231-1193.

SUPPLEMENTARY INFORMATION: The Defense Intelligence Agency systems of records notices subject to the Privacy Act of 1974, (5 U.S.C. 552a), as amended, have been published in the Federal Register and are available from the DIA Privacy Act Coordinator, DAN 1-C, 200 McDill Blvd, Washington, DC 20340.

The proposed systems reports, as required by 5 U.S.C 552a(r) of the Privacy Act of 1974, as amended, were submitted on June 1, 2010, to the House Committee on of Government Reform, the Senate Committee on Homeland Security and Government Affairs, and the Office of Management and Budget (OMB) pursuant to paragraph 4c of Appendix I to OMB Circular No A-130, “Federal Agency Responsibilities for Maintaining Records About Individuals” dated February 8, 1996 (February 20, 1996; 61 FR 6427).

Dated: June 8, 2010.
Mitchell S. Bryman,
Alternate OSD Federal Register Liaison Officer, Department of Defense.

LDIA 10-0001

System name:

Equal Opportunity, Diversity and Alternate Dispute Resolution Records.

System location:

Defense Intelligence Agency, 200 MacDill Blvd, Washington, DC 20340-5100.

Categories of individuals covered by the system:

DoD civilians, military and contractors.

Categories of records in the system:

Individual's name, Social Security Number (SSN), case numbers of records relating to the Equal Opportunity (EO) program, Alternate Dispute Resolution (ADR) and Reasonable Accommodation (RA) cases as well as General Counsel litigation records specifically related to EO, ADR, and RA cases.

Authority for maintenance of the system:

DoD Directive 1020.02, Diversity Management and Equal Opportunity; DoD Directive 5145.5, Alternate Dispute Resolution and E.O. 9397 (SSN), as amended.

Purpose(s):

To manage the equal opportunity program files, alternate dispute resolution files, and reasonable accommodation case files.

Routine Uses of records maintained in the system, including categories of users and the purposes of such uses:

In addition to those disclosures generally permitted under 5 U.S.C. 552a(b) of the Privacy Act of 1974, these records or information contained herein may specifically be disclosed outside the DoD as a routine use pursuant to 5 U.S.C. 552(b)(3) as follows:

Policies and practices for storing, retrieving, accessing, retaining, and disposing of records in the system:

Storage:

Paper records and electronic storage media.

Retrievability:

By last name, Social Security Number (SSN) and/or case file number.

Safeguards:

Records are stored in office buildings protected by guards, controlled screenings, use of visitor registers, electronic access, and/or locks. Access to records is limited to individuals who are properly screened and cleared on a need-to-know basis in the performance of their duties. Passwords and User IDs are used to control access to the system data, and procedures are in place to deter and detect browsing and unauthorized access. Physical and electronic access are limited to persons responsible for servicing and authorized to use the system.

Retention and disposal:

Equal Opportunity Records—Temporary, destroy 4 years after resolution of case.

Alternate Dispute Resolution Records—Temporary, destroy 3 years after settlement is implemented or case is discontinued.

Reasonable Accommodation Records—Temporary, destroy 3 years after employee separation from the Agency, or all appeals have been concluded whichever is later.

Electronic records are deleted by the system; paper records are destroyed by shredding, burning or pulping.

System manager(s) and address:

DSS 2-C, Defense Intelligence Agency, 200 McDill Blvd, Washington, DC 20340-5100.

Notification procedure:

Individuals seeking to determine whether information about themselves is contained in this system of records should address written inquiries to the DIA Freedom of Information Act Office (DAN-1A), Defense Intelligence Agency, 200 MacDill Blvd, Washington, DC 20340-5100.

Request should contain the individual's full name, current address, telephone number and Social Security Number (SSN).

Record access procedures:

Individuals seeking access to information about themselves, contained in this system of records, should address written inquiries to the DIA Freedom of Information Act Office, Defense Intelligence Agency (DAN-1A), 200 MacDill Blvd, Washington, DC 20340-5100.

Request should contain the individual's full name, current address, telephone number and Social Security Number (SSN).

Contesting record procedures:

DIA's rules for accessing records, for contesting contents and appealing initial agency determinations are published in DIA Instruction 5400.001 “Defense Intelligence Agency Privacy Program”; or may be obtained from the system manager.

Record source categories:

By individuals.

Exemptions claimed for the system:

Investigatory material compiled for law enforcement purposes, other than material within the scope of subsection 5 U.S.C. 552a (j)(2), may be exempt pursuant to 5 U.S.C. 552a(k)(2). However, if an individual is denied any right, privilege, or benefit for which he would otherwise be entitled by Federal law or which he would otherwise be eligible, as a result of maintenance of the information, the individual will be provided access to the information except to the extent that disclosure would reveal the identity of a confidential source. This exemption provides limited protection of investigative reports maintained in a system of records used in personnel or administrative actions.

An exemption rule for this record system has been promulgated in accordance with the requirements of 5 U.S.C. 553(b)(1), (2), and (3), (c) and (e) and published in 32 CFR part 319. For more information contact the system manager.

[FR Doc. 2010-14250 Filed 6-14-10; 8:45 am]

BILLING CODE 5001-06-P